DEPARTMENT OF THE INTERIOR

Office of Surface Mining Reclamation and Enforcement

30 CFR Part 944

[SATS No. UT-049-FOR; Docket ID No. OSM-2012-0015; S1D1SSS08011000SX066A00067F144S180110; S2D2SSS08011000SX066A00033F14XS501520]

Utah Regulatory Program

AGENCY: Office of Surface Mining Reclamation and Enforcement, Interior.

ACTION: Final rule; Approval of Amendment.

SUMMARY: We are approving an amendment to the Utah regulatory program (the “Utah program”) under the Surface Mining Control and Reclamation Act of 1977 (“SMCRA” or “the Act”). Utah proposed revisions to and additions of rules about ownership and control. Utah revised its program to be consistent with the corresponding Federal regulations.

DATES: Effective Date: June 6, 2014.

FOR FURTHER INFORMATION CONTACT: Jeffrey Fleischman, Chief, Denver Field Division, Telephone: 307-261-6550, Internet address: jfleischman@OSMRE.gov.

SUPPLEMENTARY INFORMATION:

I. Background on the Utah Program

II. Submission of the Proposed Amendment

III. Office of Surface Mining Reclamation and Enforcement's (OSM's) Findings

IV. Summary and Disposition of Comments

V. OSM's Decision

VI. Procedural Determinations

I. Background on the Utah Program

Section 503(a) of the Act permits a State to assume primacy for the regulation of surface coal mining and reclamation operations on non-Federal and non-Indian lands within its borders by demonstrating that its State program includes, among other things, “a State law which provides for the regulation of surface coal mining and reclamation operations in accordance with the requirements of this Act . . . and rules and regulations consistent with regulations issued by the Secretary pursuant to this Act.” See 30 U.S.C. 1253(a)(1) and (7). On the basis of these criteria, the Secretary of the Interior conditionally approved the Utah program on January 21, 1981. You can find background information on the Utah program, including the Secretary's findings, the disposition of comments, and conditions of approval of the Utah program in the January 21, 1981, Federal Register (46 FR 5899). You can also find later actions concerning Utah's program and program amendments at 30 CFR 944.15 and 944.30.

II. Submission of the Proposed Amendment

By letter dated June 25, 2012, Utah sent us an amendment to its program (Administrative Record Number OSM-2012-0015-0002) under SMCRA (30 U.S.C. 1201 et seq.). Utah sent the amendment in response to an October 2, 2009 letter (Administrative Record No. OSM-2012-0015-0003) we sent to Utah in accordance with 30 CFR 732.17(c).

We announced receipt of the proposed amendment in the September 5, 2012 Federal Register (77 FR 54491). In the same document, we opened the public comment period and provided an opportunity for a public hearing or meeting on the amendment's adequacy (Administrative Record No. OSM-2012-0015-0001). We did not hold a public hearing or meeting because no one requested one. The public comment period ended on October 5, 2012. We received comments from three Federal agencies.

By letter dated November 2, 2012, Utah sent us a supplemental to the June 25, 2012 amendment proposal (Administrative Record No. OSM-2012-0015-0008). Utah sent the supplemental amendment to address two minor revisions that were inadvertently omitted from the June 25th submittal.

We announced receipt of the supplemental proposed amendment in the December 12, 2012 Federal Register (77 FR 73966). In the same document, we reopened the public comment period on the amendment's adequacy (Administrative Record No. OSM-2012-0015-0010). That public comment period ended on December 27, 2012. We did not receive any additional comments during the second comment period.

III. OSM's Findings

Following are the findings we made concerning the amendment under SMCRA and the Federal regulations at 30 CFR 732.15 and 732.17. We are approving the amendment.

Revisions to Utah's Rules That Have the Same Meaning as the Corresponding Provisions of the Federal Regulations

Utah proposed revisions to the following rules containing language that is the same as or similar to the corresponding sections of the Federal regulations.

R643-874-160 corresponding to 30 CFR 874.16, AML contractor eligibility (general);

R643-875-200 corresponding to 30 CFR 875.20, AML contractor eligibility (noncoal);

R645-100-200 corresponding to 30 CFR 701.5, Definitions of “Applicant/Violator System,” “Control or Controller,” “Knowingly” (deleted), “Knowing or Knowingly,” “ `Owned or controlled' and `Owns or Controls' ” (deleted), “Own, Owner, or Ownership,” “Transfer, Assignment or Sale of Permit Rights,” “Violation,” “Violation, Failure, or Refusal,” “Violation Notice,” “Willful or Willfully,” and “Willful Violation;”

R645-300-132 corresponding to 30 CFR 773.8, Review of compliance and entry of information into the AVS;

R645-300-132.100 corresponding to 30 CFR 773.9 through 773.11, Review of applicant, operator and ownership and control information, permit history, and compliance history;

R645-300-132.120 through -132.121 corresponding to 30 CFR 773.14(3) & (4), Challenging ownership and control listings;

R645-300-132.150 through -132.150.11 corresponding to 30 CFR 773.25 through 773.28, Challenging ownership and control listings;

R645-300-132.200 corresponding to 30 CFR 773.14, Provisionally issued permits;

R645-300-132.400 corresponding to 30 CFR 773.12, Permit eligibility determinations;

R645-300-132.500 corresponding to 30 CFR 773.13, Unanticipated events or conditions at remining sites;

R645-300-133 corresponding to 30 CFR 773.15, Written findings for permit application approval;

R645-300-148 corresponding to 30 CFR 774.12(c), Updating ownership and control information;

R645-300-160 through -162 corresponding to 30 CFR 773.21, Improvidently issued permits;

R645-300-164 corresponding to 30 CFR 773.22 and 773.23, Improvidently issued permit rescission procedures;

R645-300-171 through -173 corresponding to 30 CFR 778.9, Certifying and updating permit application information;

R645-300-180 though -183.2 corresponding to 30 CFR 774.11, Post-permit issuance requirements based on ownership and control information;

R645-301-111 corresponding to 30 CFR 778.11, Minimum requirements for legal, financial, compliance, and related information;

R645-301-112.200 through -112.420 corresponding to 30 CFR 778.11 and 778.12, Providing permit history information;

R645-301-113 corresponding to 30 CFR 778.14, Providing violation information;

R645-302-240 corresponding to 30 CFR 785.25, Remining;

R645-303-310 corresponding to 30 CFR 774.17(a), Transfer, assignment, or sale of permit rights;

R645-400-319 corresponding to 30 CFR 843.11, Notices in the event of a cessation order; and

R645-403 corresponding to 30 CFR 847; Alternative enforcement.

Utah revised the listed provisions to closely mirror Federal counterpart language and requirements. These revisions encompass all required program amendments identified through our October 2, 2009 letter. Because the proposed rules contain language that is the same as or similar to the corresponding Federal regulations, we find that they are no less effective than the corresponding Federal regulations.

IV. Summary and Disposition of Comments

Public Comments

We asked for public comments on the amendment (Administrative Record Document ID No. OSM-2012-0015-0001), but did not receive any.

Federal Agency Comments

Under 30 CFR 732.17(h)(11)(i) and section 503(b) of SMCRA, we requested comments on the amendment from various Federal agencies with an actual or potential interest in the Utah program (Administrative Record Document ID No. OSM-2012-00015-0007).

On August 1, 2012 we received an email comment from the United States Department of Agriculture Forest Service, Intermountain Region (Administrative Record No. OSM-2012-0015-0006). The Forest Service stated that it did not have specific comments on the proposed amendment.

By letter dated August 3, 2012 we received a comment from the Bureau of Land Management (BLM) (Administrative Record No. OSM-2012-0015-0004). The BLM stated that the changes appear to provide clarification of the definition of responsible parties and certain procedural steps. The BLM understands that the changes will continue to be implemented by the Utah Coal Regulatory Program. We agree with the BLM comments and are approving the amendment.

Environmental Protection Agency (EPA) Concurrence and Comments

Under 30 CFR 732.17(h)(11)(i) and (ii), we are required to get concurrence from EPA for those provisions of the program amendment that relate to air or water quality standards issued under the authority of the Clean Water Act (33 U.S.C. 1251 et seq.) or the Clean Air Act (42 U.S.C. 7401 et seq.).

None of the revisions that Utah proposed to make in this amendment pertains to air or water quality standards. Therefore, we did not ask EPA to concur on the amendment. However, under 30 CFR 732.17(h)(11)(i), OSM requested comments on the amendment from EPA (Administrative Record Document ID No. OSM-2012-0015-0007. EPA responded on August 7, 2012, by stating it has no substantive comments on the proposed amendment (Administrative Record Document ID No. OSM-2012-0015-0005).

State Historic Preservation Officer (SHPO) and the Advisory Council on Historic Preservation (ACHP)

Under 30 CFR 732.17(h)(4), we are required to request comments from the SHPO and ACHP on amendments that may have an effect on historic properties. On July 2, 2012 we requested comments on Utah's amendment (Administrative Record Document ID No. OSM-2012-0015-0007), but neither responded to our request.

V. OSM's Decision

Based on the above findings, we approve Utah's June 25, 2012 amendment as supplemented November 2, 2012.

To implement this decision, we are amending the Federal regulations at 30 CFR Part 944, which codify decisions concerning the Utah program. We find that good cause exists under 5 U.S.C. 553(d)(3) to make this final rule effective immediately. Section 503(a) of SMCRA requires that the State's program demonstrates that the State has the capability of carrying out the provisions of the Act and meeting its purposes. Making this regulation effective immediately will expedite that process. SMCRA requires consistency of State and Federal standards.

Effect of OSM's Decision

Section 503 of SMCRA provides that a State may not exercise jurisdiction under SMCRA unless the State program is approved by the Secretary. Similarly, 30 CFR 732.17(a) requires that any change of an approved State program be submitted to OSM for review as a program amendment. The Federal regulations at 30 CFR 732.17(g) prohibit any changes to approved State programs that are not approved by OSM. In the oversight of the Utah program, we will recognize only the statutes, regulations and other materials we have approved, together with any consistent implementing policies, directives and other materials. We will require Utah to enforce only approved provisions.

VI. Procedural Determinations

Executive Order 12630—Takings

This rule does not have takings implications. This determination is based on the analysis performed for the counterpart Federal regulation.

Executive Order 12866—Regulatory Planning and Review

This rule is exempted from review by the Office of Management and Budget (OMB) under Executive Order 12866 (Regulatory Planning and Review).

Executive Order 12988—Civil Justice Reform

The Department of the Interior has conducted the reviews required by section 3 of Executive Order 12988 and has determined that this rule meets the applicable standards of subsections (a) and (b) of that section. However, these standards are not applicable to the actual language of State regulatory programs and program amendments because each program is drafted and promulgated by a specific State, not by OSM. Under sections 503 and 505 of SMCRA (30 U.S.C. 1253 and 1255) and the Federal regulations at 30 CFR 730.11, 732.15, and 732.17(h)(10), decisions on proposed State regulatory programs and program amendments submitted by the States must be based solely on a determination of whether the submittal is consistent with SMCRA and its implementing Federal regulations and whether the other requirements of 30 CFR Parts 730, 731, and 732 have been met.

Executive Order 13132—Federalism

This rule does not have Federalism implications. SMCRA delineates the roles of the Federal and State governments with regard to the regulation of surface coal mining and reclamation operations. One of the purposes of SMCRA is to “establish a nationwide program to protect society and the environment from the adverse effects of surface coal mining operations.” Section 503(a)(1) of SMCRA requires that State laws regulating surface coal mining and reclamation operations be “in accordance with” the requirements of SMCRA, and section 503(a)(7) requires that State programs contain rules and regulations “consistent with” regulations issued by the Secretary pursuant to SMCRA.

Executive Order 13175—Consultation and Coordination With Indian Tribal Governments

In accordance with Executive Order 13175, we have evaluated the potential effects of this rule on Federally recognized Indian Tribes and have determined that the rule does not have substantial direct effects on one or more Indian Tribes, on the relationship between the Federal government and Indian Tribes, or on the distribution of power and responsibilities between the Federal government and Indian Tribes. The rule does not involve or affect Indian Tribes in any way.

Executive Order 13211—Regulations That Significantly Affect The Supply, Distribution, or Use of Energy

On May 18, 2001, the President issued Executive Order 13211 which requires agencies to prepare a Statement of Energy Effects for a rule that is (1) considered significant under Executive Order 12866, and (2) likely to have a significant adverse effect on the supply, distribution, or use of energy. Because this rule is exempt from review under Executive Order 12866 and is not expected to have a significant adverse effect on the supply, distribution, or use of energy, a Statement of Energy Effects is not required.

National Environmental Policy Act

This rule does not require an environmental impact statement because section 702(d) of SMCRA (30 U.S.C. 1292(d)) provides that agency decisions on proposed State regulatory program provisions do not constitute major Federal actions within the meaning of section 102(2)(C) of the National Environmental Policy Act (42 U.S.C. 4332(2)(C) et seq).

Paperwork Reduction Act

This rule does not contain information collection requirements that require approval by OMB under the Paperwork Reduction Act (44 U.S.C. 3501 et seq.).

Regulatory Flexibility Act

The Department of the Interior certifies that this rule will not have a significant economic impact on a substantial number of small entities under the Regulatory Flexibility Act (5 U.S.C. 601 et seq.). The State submittal, which is the subject of this rule, is based upon counterpart Federal regulations for which an economic analysis was prepared and certification made that such regulations would not have a significant economic effect upon a substantial number of small entities. In making the determination as to whether this rule would have a significant economic impact, the Department relied upon the data and assumptions for the counterpart Federal regulations.

Small Business Regulatory Enforcement Fairness Act

This rule is not a major rule under 5 U.S.C. 804(2), of the Small Business Regulatory Enforcement Fairness Act. This rule:

a. Does not have an annual effect on the economy of $100 million.

b. Will not cause a major increase in costs or prices for consumers, individual industries, Federal, State, or local government agencies, or geographic regions.

c. Does not have significant adverse effects on competition, employment, investment, productivity, innovation, or the ability of U.S. based enterprises to compete with foreign-based enterprises.

This determination is based upon the fact that the State submittal which is the subject of this rule is based upon counterpart Federal regulations for which an analysis was prepared and a determination made that the Federal regulation was not considered a major rule.

Unfunded Mandates

This rule will not impose an unfunded mandate on State, local, or tribal governments or the private sector of $100 million or more in any given year. This determination is based upon the fact that the State submittal, which is the subject of this rule, is based upon counterpart Federal regulations for which an analysis was prepared and a determination made that the Federal regulation did not impose an unfunded mandate.

List of Subjects in 30 CFR Part 944

Intergovernmental relations, Surface mining, Underground mining.

Dated: February 25, 2014.
Allen D. Klein,
Director, Western Region.

Editorial Note: This document was received by the Office of the Federal Register on June 3, 2014.

For the reasons set out in the preamble, 30 CFR part 944 is amended as set forth below:

PART 944—UTAH

1. The authority citation for part 944 continues to read as follows:

Authority: 30 U.S.C. 1201 et seq.

2. Section 944.15 is amended in the table by adding a new entry in chronological order by “Date of final publication” to read as follows:

§ 944.15 Approval of Utah regulatory program amendments

* * * * *

Original amendment submission date | Date of final publication | Citation/description
* * * * * * *
June 25, 2012 | June 6, 2014 | R643-874-160; -875-200; R645-100-200 (Definitions); R645-300-132 (et seq); -133.1000; -148.100; -161; -162 (et seq); 164 (et seq); -171 through -185.700; R645-301-111.400 through -112.420; -113.100 through -113.120; -113.300; -113.340 through -113.360; R645-302-240 through -242; -245.210; -245.300; -245.410 through -245.420; R645-303-310; R645-400-319; R645-403 (et seq).

[FR Doc. 2014-13294 Filed 6-5-14; 8:45 am]

BILLING CODE 4310-05-P